SMALL BUSINESS ADMINISTRATION

13 CFR Part 107

Small Business Investment Companies—Early Stage SBICs; Public Webinars

AGENCY: U.S. Small Business Administration.

ACTION: Notice of public Webinars.

SUMMARY: The U.S. Small Business Administration (SBA) announces that it is holding a series of public Webinars regarding its proposed Early Stage Small Business Investment Companies (Early Stage SBIC) rule. The proposed Early Stage SBIC rule defines a new sub-category of small business investment companies (SBICs) that will focus on making equity investments in early stage small businesses. The Webinars will provide a basic overview of and respond to questions regarding the proposed rule. The Webinars will be transcribed or summarized and become part of the administrative record.

DATES: Webinars are scheduled for January 11, 13, and 19, 2012, as outlined in Section II.

ADDRESSES: The phone number and corresponding web address for each Webinar will be provided to participants upon registration.

FOR FURTHER INFORMATION CONTACT: Office of Investment and Innovation at startupamerica@sba.gov.

SUPPLEMENTARY INFORMATION:

I. Background Information

On December 9, 2011, SBA published a proposed Early Stage SBIC rule to define a new sub-category of SBICs that will focus on making equity investments in early stage small businesses. This initiative is part of President Obama's “Start-Up America Initiative” to encourage American innovation and job creation by promoting high-growth entrepreneurship across the country to help encourage private sector investment in job-creating startups and small firms, accelerate research, and address barriers to success for entrepreneurs and small businesses.

In order to familiarize the public with the content of the proposed Early Stage SBIC rule, SBA will host several Webinars on the proposed rule. Interested parties may choose any Webinar listed in Section II to attend, although one Webinar will be directed towards participants already familiar with the SBIC program and the other Webinars will be directed to those not familiar with the SBIC program. Webinars will be transcribed or summarized and become part of the administrative record. Since the purpose of the Webinars is to familiarize participants with the proposed rule, comments on specific aspects of the rule will not be solicited during the Webinars. Comments regarding the proposed rule must be submitted at www.regulations.gov/#!documentDetail;D=SBA-2011-0023-0001.

II. Webinar Schedule

Webinar participant focus | Webinar date and time | Registration closing date
Participants Already Familiar with the SBIC Program | January 11, 2012, 1 pm Eastern Standard Time (EST) | January 6, 2012, 11:59 pm EST.
Participants Not Familiar with the SBIC Program | January 13, 2012, 1 pm EST | January 10, 2012, 11:59 pm EST.
Participants Not Familiar with the SBIC Program | January 19, 2012, 2 pm EST | January 13, 2012, 11:59 pm EST.

Each session is expected to last no more than 1 hour.

III. Registration

If you are interested in attending any Webinar, you must pre-register by the registration closing date by sending an email to startupamerica@sba.gov. You must include in the SUBJECT line the date of the Webinar for which you wish to participate, and in the body of the email, please provide the following: Participant's Name, Title, Organization Affiliation, Address, Telephone Number, Email Address, and Fax Number. Please also note if you need accommodation because of a disability. SBA will accommodate all reasonable requests made at least one week in advance of the requested Webinar. You must submit your email by the applicable registration closing date listed in Section II of this notice.

Due to technological limitations, participation is limited to 110 registrants per session. If the requested session is unavailable, SBA will try to schedule you for a different session and notify you via email. Because of the limited number of registrants, please only register for one Webinar. If demand exceeds capacity for all three sessions, SBA may consider holding more Webinars. SBA will announce any additional Webinars through a Federal Register notice and on its Web site, www.sba.gov/inv/earlystage.

SBA will confirm the registration via email along with instructions for participating. SBA will post any presentation materials associated with the Webinars on the day of the Webinar at www.sba.gov/inv/earlystage. Participants are responsible for ensuring their systems are compatible with the Webinar software.

If there are specific questions you would like SBA to address during the Webinars, please send your question(s) to SBA no later than January 4, 2012. If there is time at the end of each Webinar, the Webinar will open for questions from participants. Since the Early Stage SBIC rule is in the proposed rulemaking stage, SBA will not be able to answer questions that are outside the scope of the proposed rule. All participants are encouraged to submit comments regarding the proposed rule at www.regulations.gov/#!documentDetail;D=SBA-2011-0023-0001.

Sean Greene,
Associate Administrator for Investment and Special Advisor for Innovation.

[FR Doc. 2011-33044 Filed 12-27-11; 8:45 am]

BILLING CODE 8025-01-P